ENVIRONMENTAL PROTECTION AGENCY

[ER-FRL-8991-5]

Environmental Impacts Statements; Notice of Availability

Responsible Agency: Office of Federal Activities, General Information (202) 564-1399 or http://www.epa.gov/compliance/nepa/.

Weekly receipt of Environmental Impact Statements filed 07/05/2010 through 07/09/2010 pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100252, Final EIS, USACE, CA, Rio del Oro Specific Plan Project, New Information on Biological Resource and Water Supply, City of Rancho Cordova, Sacramento County, CA, Wait Period Ends: 08/16/2010, Contact: Lisa M. Gibson, 916-557-5288.

EIS No. 20100253, Draft EIS, BLM, UT, Greater Natural Buttes Area Gas Development Project, Proposes to Develop Oil and Gas Resources within the 162-911-Acre, Uintah County, UT, Comment Period Ends: 08/30/2010, Contact: Stephanie Howard, 435-781-4469.

EIS No. 20100254, Draft EIS, USACE, CA, Folsom South of U.S. 50 Specific Plan Project, Proposed land Use Development in the Specific Plan Area, City of Folsom, Sacramento County, CA, Comment Period Ends: 09/07/2010, Contact: Lisa M. Gibson, 916-557-5288.

EIS No. 20100255, Draft EIS, NPS, WA, Ross Lake National Recreation Area Project, General Management Plan, Implementation, Skagit and Whatcom Counties, WA, Comment Period Ends: 09/10/2010, Contact: Roy Zipp, 360-873-4590 Ext 31.

EIS No. 20100256, Final Supplement, FSA, 00, PROGRAMMATIC—Expansion of the Emergency Conservation Program, To Restore Farmland (Cropland, Hayland and Pastureland) to a Normal Productive State after a Natural Disaster, Wait Period Ends: 08/16/2010, Contact: Matthew T. Ponish, 202-270-6853.

EIS No. 20100257, Final EIS, NPS, DC, National Mall Plan, To Prepare a Long-Term Plan that will Restore National Mall, Implementation, Washington, DC, Wait Period Ends: 08/16/2010, Contact: Susan Spain, 202-245-4692.

EIS No. 20100258, Draft EIS, BLM, OR, North Steens 230-kV Transmission Line Project, Construction and Operation of a Transmission Line and Access Roads Associated with the Echanis Wind Energy Project, Authorizing Right-of-Way Grant, Harney County, OR, Comment Period Ends: 08/30/2010, Contact: Skip Renchler, 541-573-4400.

EIS No. 20100259, Draft EIS, FAA, RI, Theodore Francis Green Airport Improvement Program, Proposing Improvements to Enhance Safety and the Efficiency of the Airport and the New England Regional Airport System, City of Warwick, Kent County, RI, Comment Period Ends: 08/30/2010, Contact: Richard Doucette, 781-238-7613.

EIS No. 20100260, Draft EIS, DOI, CO, Over The River (OTR) Project, Propose to Install a Temporary Work of Art, Require the Use of Federal, Private and State Lands Adjacent to the River, Western Fremont County and Southeast Portion of Chaffee County, CO, Comment Period Ends: 08/30/2010, Contact: Vincent Hooper, 719-269-8555.

EIS No. 20100261, Final EIS, USFS, CO, Willow Creek Pass Fuel Reduction Project, Implementation, Hahns Peak/Bear Ears Ranger District, Medicine Bow-Routt National Forests, Routt County, CO, Wait Period Ends: 08/16/2010, Contact: Robert A. Bringuel, 978-870-2227.

Amended Notices

EIS No. 20100121, Draft EIS, DOI, CA, Stanford University Habitat Conservation Plan, Authorization for Incidental Take and Implementation, San Mateo and Santa Clara Counties, CA, Comment Period Ends: 08/30/2010, Contact: Gary Stern, 707-575-6060. Revision to FR Notice Published 04/16/2010: Extending Comment Period from 7/15/2010 to 8/30/2010.

EIS No. 20100157, Draft EIS, USFS, NV, Mountain City, Ruby Mountains, and Jarbidge Ranger Districts, Combined Travel Management Project, Implementation, Humboldt-Toiyabe National Forest, Elko and White Pine Counties, NV, Comment Period Ends: 12/17/2010, Contact: James Winfrey, 775-355-5308. Revision to FR Notice Published 05/07/2010: Extending Comment Period from 6/21/2010 to 12/17/2010.

EIS No. 20100210, Draft EIS, USACE, 00, Fargo-Moorhead Metropolitan Area Flood Risk Management, Proposed Construction of Flood Protection Measures, Red River of the North Basin, ND and MN, Comment Period Ends: 08/09/2010, Contact: Aaron Snyder, 651-290-5489. Revision to FR Notice Published 06/11/2010: Extending Comment Period from 7/26/2010 to 8/9/2010.

Dated: July 13, 2010.
Robert W. Hargrove,
Director, NEPA Compliance Division, Office of Federal Activities.

[FR Doc. 2010-17406 Filed 7-15-10; 8:45 am]

BILLING CODE 6560-50-P